FEDERAL RESERVE SYSTEM

Agency Information Collection Activities: Discontinuance

SUMMARY:

Background

Notice is hereby given of the discontinuance of an information collection by the Board of Governors of the Federal Reserve System (Board) under OMB delegated authority, as per 5 CFR 1320.16 (OMB Regulations on Controlling Paperwork Burdens on the Public).

FOR FURTHER INFORMATION CONTACT: Federal Reserve Board Clearance Officer-Mary M. West-Division of Research and Statistics, Board of Governors of the Federal Reserve System, Washington, DC 20551 (202-452-3829); OMB Desk Officer-Alexander T. Hunt-Office of Information and Regulatory Affairs, Office of Management and Budget, New Executive Office Building, Room 3208, Washington, DC 20503 (202-395-7860).

Discontinuation of the following report:

1. Report title: Daily Advance Report of Deposits

Agency form number: FR 2000

OMB Control number: 7100-0087

Effective Date: November 5, 2001

Frequency: Daily

Reporters: Large commercial banks and thrifts

Annual reporting hours: 24,960

Estimated average hours per response: 0.60

Number of respondents: 160

Small businesses are not affected.

General description of report: This information collection is mandatory (12 U.S.C. 248(a), 347(d), 603, 615 and 415) and is given confidential treatment (5 U.S.C. 552(b)(4)).

Abstract: This report collects selected deposit and vault cash data for the most recent reporting week from a sample of large commercial banks and thrifts before such data become available for the universe of all weekly reporters of the Report of Transaction Accounts, Other Deposits and Vault Cash (FR 2900; OMB No. 7100-0087). Although these advance data have been useful for estimating the monetary aggregates, the Federal Reserve feels that the costs to the Federal Reserve System and to depository institutions of collecting these data outweigh the benefits. In addition, under contemporaneous reserve requirements, these data were essential in constructing estimates of aggregate required reserves and vault cash for the reserve maintenance period. Since the Federal Reserve's change back to lagged reserve requirements in August 1998, these data are no longer essential for that purpose. Respondents will submit their final FR 2000 for the reporting week ending November 5, 2001. The Federal Reserve will continue to collect the other reports included in this information collection.

Board of Governors of the Federal Reserve System, October 26, 2001.
Jennifer J. Johnson,
Secretary of the Board.

[FR Doc. 01-27422 Filed 10-31-01; 8:45 am]

BILLING CODE 6210-01-S